DEPARTMENT OF HEALTH AND HUMAN SERVICES

Centers for Disease Control and Prevention

[Program Announcement 02038]

Improving Effectiveness of the Tuberculosis Prevention and Control Program in Estonia; Notice of Award of Funds

A. Purpose

The Centers for Disease Control and Prevention (CDC) announces the availability of fiscal year (FY) 2002 funds for a sole source cooperative agreement for the National Tuberculosis Control Program (NTP), Ministry of Health of the Government of Estonia.

The purpose of this program is to provide education and technical assistance to improve the quality, efficiency, and effectiveness of programs for the prevention and control of tuberculosis (TB) in Estonia.

B. Eligible Applicants

Assistance will be provided only to the National Tuberculosis Control Program (NTP), Ministry of Health of the Government of Estonia to train TB nurses in ambulatory care, community-based treatment, and infection control.

The NTP, Ministry of Health of the Government of Estonia is the most appropriate and qualified agency to conduct the activities under this cooperative agreement for the following reasons:

1. The NTP is uniquely positioned, in terms of legal authority, ability, track record, and credibility in Estonia to develop and implement TB control activities in both public sites throughout the country.

2. The NTP is currently involved in TB treatment services in Estonia, enabling it to immediately become engaged in the activities listed in this announcement.

3. The purpose of the announcement is to utilize and build upon existing framework of TB control activities that the NTP has developed or initiated.

4. The NTP has been mandated by the Ministry of Health in Estonia to coordinate and implement TB treatment and control activities including Multi Drug Resistent TB (MDR-TB) within the country.

C. Funds

Approximately $65,000 is being awarded in FY 2002. The award will be made by September 30, 2002, for a 12-month budget period within a project period of up to five years.

D. Where To Obtain Additional Information

Business management technical assistance may be obtained from: Angelia D. Hill, Grants Management Specialist, Procurement and Grants Office, Centers for Disease Control and Prevention, 2920 Brandywine Road, MS E-09, Atlanta, GA 30341-4146. Telephone: (770) 488-2785. FAX: (770)488-2688. E-mail: aph8@cdc.gov.

Program technical assistance may be obtained from: Michael Qualls, Deputy Associate Director, International Activities, Division of Tuberculosis Elimination, National Center for HIV, STD, and TB Prevention, Centers for Disease Control and Prevention (CDC), 1600 Clifton Road Mailstop E-10, Atlanta, GA 30333. Telephone 404-639-8488. E-mail address: muq1@cdc.gov.

Dated: September 12, 2002.
Sandra R. Manning,
CGFM, Director, Procurement and Grants Office, Centers for Disease Control & Prevention.

[FR Doc. 02-23928 Filed 9-19-02; 8:45 am]

BILLING CODE 4163-18-P